DEPARTMENT OF AGRICULTURE

Submission for OMB Review; Comment Request

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 26, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Institute of Food and Agriculture

Title: NIFA Grant Application.

OMB Control Number: 0524-0039.

Summary of Collection: The United States Department of Agriculture (USDA), National Institute of Food and Agriculture (NIFA) sponsors ongoing agricultural research, education, and extension programs under which competitive, formula, and special awards of a high-priority nature are made. These programs are authorized pursuant to the authorities contained in the National Agricultural Research, Extension, and Teaching Policy Act of 1977, as amended (7 U.S.C. 3101), the Smith-Lever Act, and other legislative authorities.

Before awards can be issued, certain information is required from applicants as part of an overall application. In addition to a project summary, proposal narrative, vitae of key personnel, and other pertinent technical aspects of the proposed project, supporting documentation of an administrative and budgetary nature also must be provided. This information is obtained via applications through the use of federal-wide standard grant application forms and NIFA specific application forms. Because competitive applications are submitted, many of which necessitate review by peer panelists, it is particularly important that applicants provide the information in a standardized fashion to ensure equitable treatment for all.

Need and Use of the Information: The fundamental purpose of the information requested is for provide information that is not obtained in the federal-wide application forms but is necessary for the NIFA proposal and award process. In addition to federal-wide standard grant application forms, NIFA will use the following program and agency specific components as part of its application package: Letter of Intent Form, Supplemental Information Form; Application Type Form; Form NIFA-2008, Assurance Statement(s); and Form NIFA-2010, Fellowships/Scholarships Entry/Annual Update/Exit Form.

Description of Respondents: Individuals or household; Federal Government; State, Local or Tribal Government.

Number of Respondents: 26,550.

Frequency of Responses: Recordkeeping; Reporting: Weekly; Monthly; Annually.

Total Burden Hours: 26,888.

Rachelle Ragland-Greene,
Departmental Information Collection Clearance Officer.

[FR Doc. 2025-20998 Filed 11-24-25; 8:45 am]

BILLING CODE 3410-09-P